DEPARTMENT OF STATE

[Public Notice: 8128]

Notice of Receipt of Kinder Morgan Cochin, LLC, Application for a Presidential Permit To Operate and Maintain Pipeline Facilities on the Border of the United States and Canada

AGENCY: Department of State.

ACTION: Notice of Receipt of Kinder Morgan Cochin, LLC, Application for a Presidential Permit To Operate and Maintain Pipeline Facilities on the Border of the United States and Canada.

SUMMARY: Notice is hereby given that the Department of State (DOS) has received from Kinder Morgan Cochin, LLC (“KM Cochin”) notice that by way of corporate succession, KM Cochin now owns, operates, and maintains pipeline facilities (“Cochin Pipeline”) previously owned by Dome Pipeline Corporation (“Dome Pipeline”) and permitted under a 1974 Presidential Permit issued to Dome Pipeline. KM Cochin requests a new Presidential Permit be issued under its name with respect to the Cochin Pipeline.

KM Cochin is a Delaware limited liability company with its principal office at 500 Dallas Street Suite 1000, Houston, TX 77002. It is engaged in the interstate, intrastate and international transportation by pipeline of light liquid hydrocarbons, including transportation of light liquid hydrocarbons between the United States and Canada on the Cochin Pipeline crossing the border of North Dakota and Saskatchewan. KM Cochin is an indirectly wholly owned subsidiary of KMP, a Delaware master limited partnership listed on the NYSE as “KMP”, with its principal office at 500 Dallas Street, Suite 1000, Houston, TX 77002. The general partner of KMP is Kinder Morgan G.P., Inc., (“KMGP”) a Delaware corporation, which is owned by Kinder Morgan, Inc., (“KMI”, as listed on the NYSE), a Delaware corporation. KMP is owned by KMI through common and class B limited partner units, by KMG though its 1% general partner interest, and by public investors as limited partners holding common units purchased on the NYSE.

Dome Pipeline built, operated and maintained the pipeline pursuant to the 1974 Permit from the date the Permit was issued until March 15, 2007, when Dome Petroleum Corp., a North Dakota corporation with principal offices in Bismarck, North Dakota, sold Dome Pipeline, its former subsidiary, to Kinder Morgan Operating L.P. “A” (“KMOLPA”), a Delaware limited partnership and affiliate of Kinder Morgan Energy Partners LP, (“KMP”), a Delaware limited partnership, both with principal offices in Houston, Texas. Following the sale, Dome Pipeline was converted from a Delaware corporation to a Delaware limited liability company and merged into KM Cochin, which is now the legal name of the former Dome Pipeline Corporation. Since March 15, 2007, KM Cochin has owned, operated and maintained the Cochin Pipeline in compliance with all the terms and conditions of the previously issued Permit.

The Cochin Pipeline is a 1,819 mile, 12-inch diameter pipeline that originates in Fort Saskatchewan, Alberta, and terminates at Windsor, Ontario. Cochin is presently approved by the Department of Transportation's Pipeline and Hazardous Materials Safety Administration (PHMSA) to operate at a pressure of 1,000 psi, and is able to transport up to 95,000 barrels per day of light liquid hydrocarbons. Currently, the pipeline is used to move propane from Alberta to distribution terminals in the United States and Windsor, Ontario. A planned Cochin reversal project will involve reversing the flow of petroleum liquids so that shippers will be able to ship condensate from the United States westward for delivery into Canada.

Under E.O. 13337 the Secretary of State is designated and empowered to receive all applications for Presidential Permits for the construction, connection, operation, or maintenance at the borders of the United States, of facilities for the exportation or importation of liquid petroleum, petroleum products, or other non-gaseous fuels to or from a foreign country. The Department of State is circulating this application to concerned federal agencies for comment. The Department of State has the responsibility to determine whether issuance of a new Presidential Permit reflecting the change in ownership or control of the Cochin Pipeline would be in the U.S. national interest.

DATES: Interested parties are invited to submit comments within 30 days of the publication date of this notice by email to KinderMorganCochinpermit@state.gov with regard to whether issuing a new Presidential Permit reflecting the corporate succession and authorizing KM Cochin to operate and maintain the Cochin Pipeline would be in the national interest. The application is available at http://www.state.gov/e/enr.

FOR FURTHER INFORMATION CONTACT: Office of Energy Diplomacy, Energy Resources Bureau (ENR/EDP/EWA) Department of State 2201 C St. NW., Ste. 4843, Washington, DC 20520, Attn: Michael Brennan, Tel: 202-647-7553.

Dated: December 13, 2012.
Michael Brennan,
Acting Director, Office of Europe, Western Hemisphere and Africa, Bureau of Energy Resources, U.S. Department of State.

[FR Doc. 2012-30542 Filed 12-18-12; 8:45 am]

BILLING CODE 4710-09-P